DEPARTMENT OF JUSTICE

Notice of Lodging of a Consent Decree Under the Clean Water Act

Notice is hereby given that on June 20, 2012, a proposed Consent Decree (“CD”) in United States et al. v. Toll Brothers, Inc., et al., Civil Action No. 12-3489, was lodged with the United States District Court for the Eastern District of Pennsylvania.

In this action the United States brought claims against Toll Brothers, Inc. and seven of its wholly-owned subsidiaries (“Toll”) for violations of National Pollutant Discharge Elimination System (“NPDES”) permits which are federally-enforceable under Section 309 of the Clean Water Act (“CWA”), 33 U.S.C. 1319. The State of Maryland and the Commonwealth of Virginia joined this case as co-plaintiffs (“State Plaintiffs”). The CD addresses Toll's violations of the CWA as well as violations of state and Federal NPDES permits governing the discharge of storm water from Toll's home construction sites. The CD resolves the claims of the United States and State Plaintiffs for past violations at 370 construction sites by requiring the payment of a civil penalty of $741,000 and the institution of injunctive relief in the form of a nation-wide management, reporting, and training program to improve Toll's compliance with storm water requirements at Toll's current and future construction sites.

The Department of Justice will receive for a period of thirty (30) days from the date of this publication comments relating to the CD. Comments should be addressed to the Assistant Attorney General, Environment and Natural Resources Division, and either emailed to pubcomment-ees.enrd@usdoj.gov or mailed to P.O. Box 7611, U.S. Department of Justice, Washington, DC 20044-7611, and should refer to United States et al. v. Toll Brothers, Inc., et al., D.J. Ref. No. 90-5-1-1-09301.

During the public comment period, the CD may also be examined on the following Department of Justice Web site, to http://www.usdoj.gov/enrd/Consent_Decrees.html. A copy of the CD may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $ 37.75 (25 cents per page reproduction cost) payable to the U.S. Treasury or, if requesting by email or fax, forward a check in that amount to the Consent Decree Library at the address given above. In requesting a copy exclusive of exhibits, please enclose a check in the amount of $ 20.25 (25 cents per page reproduction cost) payable to the U.S. Treasury.

Robert D. Brook,
Assistant Chief, Environmental Enforcement Section, Environment and Natural Resources Division.

[FR Doc. 2012-15478 Filed 6-25-12; 8:45 am]

BILLING CODE 4410-15-P